DEPARTMENT OF THE INTERIOR

Fish and Wildlife Service

50 CFR Part 17

RIN 1018-AF81

Endangered and Threatened Wildlife and Plants; Extension of Comment Period on Proposed Rule To List the Santa Barbara County Distinct Population of the California Tiger Salamander as Endangered

AGENCY: Fish and Wildlife Service, Interior.

ACTION: Proposed rule; second extension of comment period.

SUMMARY: The U.S. Fish and Wildlife Service (Service) gives notice that the comment period on the proposed rule to list the Santa Barbara distinct population of the California tiger salamander will be reopened to allow for the inclusion of new information regarding the presence of the California tiger salamander in areas previously not identified as known salamander sites. The extension will allow all interested parties to submit oral or written comments on the proposal.

DATES: The reopened comment period closes June 5, 1999. Comments must be received by the closing date. Any comments received after the closing date may not be considered in the final decision on the proposal.

ADDRESSES: Written comments should be sent to Diane Noda, Field Supervisor, U.S. Fish and Wildlife Service, Ventura Fish and Wildlife Office, 2493 Portola Road, Suite B, Ventura, California 93003. Comments and materials received will be available for public inspection, by appointment, during normal business hours at the above Service address.

FOR FURTHER INFORMATION CONTACT: Carl Benz, at the above Ventura, California address, phone 805/644-1766, facsimile 805/644-3958.

SUPPLEMENTARY INFORMATION:

Background

On January 19, 2000, the Fish and Wildlife Service (Service) proposed to list the Santa Barbara County Distinct Vertebrate Population Segment of the California tiger salamander, (Ambystoma californiense), as endangered pursuant to the Endangered Species Act (Act) of 1973, as amended (Act). An emergency rule listing the population was published concurrently in the same issue of the Federal Register. The Santa Barbara County population segment of the California tiger salamander is endemic to low elevation (typically below 300 meters (1,000 feet)) vernal pools and seasonal ponds and the surrounding grasslands, oak woodlands, and coastal scrub of Santa Barbara County, California, and is imperiled primarily by habitat loss from conversion of natural habitat to intensive agriculture and urban development, habitat fragmentation, and agricultural contaminants. The original comment period closed March 20, 2000.

On March 24, 2000, the Service reopened the comment period in response to citizen requests that a public hearing be held. The comment period was extended until May 4, 2000, during which a public hearing was held on April 20, 2000, in Santa Maria, California.

This second extension of the comment period will enable the Service to consider in its final rule the results of surveys for California tiger salamanders conducted during this breeding season. Written comments may be submitted until June 5, 2000, to the Service office in the ADDRESSES section.

Author: The primary author of this notice is Carl Benz (see ADDRESSES).

Authority: The authority for this action is the Endangered Species Act of 1973, as amended (16 U.S.C. 1531-1544).

Dated: May 15, 2000.
Elizabeth H. Stevens,
Acting Manager, California/Nevada Operations.

[FR Doc. 00-12609 Filed 5-18-00; 8:45 am]

BILLING CODE 4310-55-U